OVERSEAS PRIVATE INVESTMENT CORPORATION

Submission for OMB Review; Comment Request

AGENCY: Overseas Private Investment Corporation (OPIC).

ACTION: Request for comments.

SUMMARY: Under the provisions of the Paperwork Reduction Act (44 U.S.C. Chapter 35), Agencies are required to publish a Notice in the Federal Register notifying the public that the Agency has prepared an information collection request for OMB review and approval and has requested public review and comment on the submission. OPIC published its first Federal Register Notice on this information collection request on June 22, 2004, in 69 FR 34712, at which time a 60-calendar day comment period was announced. This comment period ended August 23, 2004. No comments were received in response to this Notice.

This information collection submission has now been submitted to OMB for review.

Comments are again being solicited on the need for the information, the accuracy of the Agency's burden estimate: The quality, practical utility and clarity of the information to be collected; and on ways to minimize the reporting burden, including automated collection techniques and uses of other forms of technology. The proposed form, OMB Control number 3420-0004, under review is summarized below.

DATES: Comments must be received within 30 calendar days of this Notice.

ADDRESSES: Copies of the subject form and the request for review submitted to OMB may be obtained from the Agency Submitting Officer. Comments on the form should be submitted to the OMB Reviewer.

FOR FURTHER INFORMATION CONTACT: OPIC Agency Submitting Officer: Bruce I. Campbell, Records Manager, Overseas Private Investment Corporation, 1100 New York Avenue, NW., Washington, DC 20527; 202/336-8563.

OMB Reviewer: David Rostker, Office of Information and Regulatory Affairs, Office of Management and Budget, New Executive Office Building, Docket Library, Room 10102, 725 17th Street, NW., Washington, DC 20503, 202/395-3897.

Summary of Form Under Review:

Type of Request: Form Renewal.

Title: Project Information Report.

Form Number: OPIC 71.

Frequency of Use: No more than once per contract.

Type of Respondents: Business or other institutions (except farms).

Description of Affected Public: U.S. companies investing overseas.

Reporting Hours: 40 hours per project.

Number of Responses: 30 per year.

Federal Cost: $2,781.00.

Authority for Information Collection: Title 22 USC 2191 (k)(2) and 2199 (h) of the Foreign Assistance Act of 1961, as amended.

Abstract (Needs and Uses): The project information report is necessary to elicit and record the information on the developmental, environmental, and U.S. economic effects of OPIC-assisted projects. The information will be used by OPIC's staff and management solely as a basis for monitoring these projects, and reporting the results in aggregate form, as required by Congress.

Dated: August 23, 2004.
Eli Landy,
Senior Counsel, Administrative Affairs, Department of Legal Affairs.

[FR Doc. 04-19530 Filed 8-25-04; 8:45 am]

BILLING CODE 3210-01-M